DEPARTMENT OF AGRICULTURE

Forest Service

Information Collection: Urban Forest Engagement in Atlanta, GA

AGENCY: Forest Service, Agriculture (USDA).

ACTION: Notice; request for comment.

SUMMARY: In accordance with the Paperwork Reduction Act of 1995, the USDA Forest Service is seeking comments from all interested individuals and organizations on the extension with revisions of a currently approved information collection, Urban Forest Engagement in Atlanta, Georgia.

DATES: Comments must be received in writing on or before November 15, 2021 to be assured of consideration. Comments received after that date will be considered to the extent practicable.

ADDRESSES: Commenters are encouraged to submit comments by email, if possible. You may submit comments by any of the following methods:

• Email: cassandra.johnson@usda.gov.

• Mail: Cassandra Johnson Gaither, Forestry Sciences Lab, 320 Green Street, Athens, GA 30602.

• Hand Delivery/Courier: Cassandra Johnson Gaither, Forestry Sciences Lab, 320 Green Street, Athens, GA 30602.

• Facsimile: (706) 559-4266.

The public may inspect comments received at Forestry Sciences Lab, 320 Green Street, Athens, GA 30602, during normal business hours. Visitors are encouraged to call ahead to (706) 559-4270 to facilitate entry to the building.

FOR FURTHER INFORMATION CONTACT: Cassandra Johnson Gaither, USDA Forest Service, Southern Research Station, by phone at (706) 559-4270 or email at cassandra.johnson@usda.gov. Individuals who use telecommunication devices for the hearing-impaired (TDD) may call the Federal Relay Service (FRS) at 1-800-877-8339 twenty-four hours a day, every day of the year, including holidays.

SUPPLEMENTARY INFORMATION: Title: Urban Forest Engagement in Atlanta, GA.

OMB Number: 0596-0237.

Expiration Date of Approval: February 28, 2022.

Type of Request: Extension with revisions of a currently approved information collection.

Abstract: This information collection will continue to gather data on City of Atlanta residents' interest in and engagement with the urban forest in the city. This information collection focuses more narrowly on urban forest patches, a collection or stand of trees, in public spaces. Engagement is defined as residents' interest in and awareness of urban forest patches and resident participation in decisions about how the patches should be maintained or repurposed. The information collection also gathers data on social factors such as neighborhood transiency and perception of neighborhood conditions, conceptualized as collective efficacy and social cohesion. The neighborhood conditions data provides information on the broader context from which people make decisions about engaging with urban forest patches. If neighborhood transiency (i.e., frequent involuntary moving of people in and out of neighborhoods) is problematic in communities or people lack basic needs such as access to healthy foods or safe neighborhoods, it is unlikely that they would demonstrate a high degree of engagement with the city's urban forest.

This collection extends the existing information collection effort by examining the environmental justice implications of neighborhood-level decision making about the forest patches. Prior door-to-door data collection in south Atlanta neighborhoods revealed the presence of forest patches on vacant properties. However, there is little to no data on how residents perceive of these spaces or how residents might contribute to decision processes about the outcome of these spaces. This is an important question given the sites are providing ecological benefits such as stormwater mitigation.

For the proposed data collection, survey questions were included on people's awareness of forest patches on vacant properties near their neighborhoods and on potential barriers residents might face in contributing to decision making processes about the patches. Many contextual factors constrain people's ability to engage in local-level environmental decision making, the procedural component of environmental justice. The data collected via this effort will provide important input on factors that might facilitate or constrain engagement and will inform the USDA Forest Service's efforts to address Executive Order 14008, Tackling the Climate Crisis at Home and Abroad, and Executive Order 12898, Federal Actions to Address Environmental Justice in Minority Populations and Low Income Populations.

Data collection will center on south Atlanta neighborhoods adjacent to vacant land with forest patches. These neighborhoods are overwhelmingly African American, with poverty rates ranging from roughly 30 percent to 64 percent. The neighborhoods are also near multiple transportation companies, the activities of which compromise air quality.

The survey will be conducted at the household, using proportionate-guided random sampling where the survey is left for the appropriate respondent to complete and is picked up later by a survey administrator. This methodology limits contact between the surveyor and the household but provides the in-person contact that is helpful for increasing response rates which are considerably lower in minority communities. Survey administrators will include USDA Forest Service social scientists, neighborhood residents trained in door-to-door data collection methods, and university college students. Researchers with USDA Forest Service Research & Development staff will analyze the data.

If the information proposed herein is not collected, the opportunity to address environmental justice from a procedural perspective will be missed. The information collection also will assist the Agency in better understanding how urban green spaces in southern cities impact residents' quality of life. Comparatively fewer Forest Service led studies have examined this topic for these populations.

Type of Respondents: City of Atlanta residents.

Estimated Annual Number of Respondents: 600.

Estimated Annual Number of Responses per Respondent: 1.

Estimated Total Annual Burden on Respondents: 120 hours.

Comment Is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request for Office of Management and Budget approval.

Dated: September 9, 2021.
Alexander L. Friend,
Deputy Chief, Research & Development.

[FR Doc. 2021-19766 Filed 9-13-21; 8:45 am]

BILLING CODE 3411-15-P